DEPARTMENT OF TRANSPORTATION

Federal Aviation Administration

14 CFR Part 39

[Docket No. FAA-2005-20662; Directorate Identifier 2004-NM-191-AD]

RIN 2120-AA64

Airworthiness Directives; McDonnell Douglas Model DC-10-10, DC-10-10F, DC-10-15, DC-10-30, DC-10-30F (KC-10A and KDC-10), DC-10-40, DC-10-40F, MD-10-10F, and MD-10-30F Airplanes; and Model MD-11 and MD-11F Airplanes

AGENCY: Federal Aviation Administration (FAA), Department of Transportation (DOT).

ACTION: Notice of proposed rulemaking (NPRM).

SUMMARY: The FAA proposes to adopt a new airworthiness directive (AD) for certain McDonnell Douglas airplanes. This proposed AD would require a general visual inspection for damage to the Firex discharge pipes and wye assembly of the number 2 engine fire extinguishing system; and corrective and other specified actions, as applicable. This proposed AD is prompted by reports of freezing damage to the Firex discharge pipes and wye assembly of the number 2 engine, and one report of a level 1 ENG FIRE AGENT LO alert during flight. We are proposing this AD to prevent accumulation of water in the discharge pipes and possible consequent freezing damage to the discharge pipes and wye assembly, which could lead to failure of the fire extinguishing system during a fire in the number 2 engine.

DATES: We must receive comments on this proposed AD by May 6, 2005.

ADDRESSES: Use one of the following addresses to submit comments on this proposed AD.

• DOT Docket Web Site: Go to http://dms.dot.gov and follow the instructions for sending your comments electronically.

• Government-wide Rulemaking Web Site: Go to http://www.regulations.gov and follow the instructions for sending your comments electronically.

• Mail: Docket Management Facility, U.S. Department of Transportation, 400 Seventh Street SW., Nassif Building, room PL-401, Washington, DC 20590.

• By Fax: (202) 493-2251.

• Hand Delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or in person at the Docket Management Facility, U.S. Department of Transportation, 400 Seventh Street SW., room PL-401, on the plaza level of the Nassif Building, Washington, DC. This docket number is FAA-2005-20662; the directorate identifier for this docket is 2004-NM-191-AD.

FOR FURTHER INFORMATION CONTACT: Samuel Lee, Aerospace Engineer, Propulsion Branch, ANM-140L, FAA, Los Angeles Aircraft Certification Office, 3960 Paramount Boulevard, Lakewood, California 90712-4137; telephone (562) 627-5262; fax (562) 627-5210.

SUPPLEMENTARY INFORMATION:

Comments Invited

We invite you to submit any relevant written data, views, or arguments regarding this proposed AD. Send your comments to an address listed under ADDRESSES. Include “Docket No. FAA-2005-20662; Directorate Identifier 2004-NM-191-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received reports of damage to the Firex discharge pipes and wye assembly of the number 2 engine of two McDonnell Douglas Model DC-10-30F airplanes, and one report of a level 1 ENG FIRE AGENT LO alert during flight on a Model DC-10-30F airplane. We have also received reports of accumulated water being discovered in the Firex discharge pipes of one Model DC-10-10F airplane and two Model MD-11F airplanes. Investigation revealed that water can collect and remain in the discharge pipes. This condition, if not corrected, could result in freezing and ice damage to the discharge pipes and wye assembly, and consequent failure of the fire extinguishing system during a fire in the number 2 engine.

Relevant Service Information

We have reviewed Boeing Alert Service Bulletin MD11-26A060, dated July 20, 2004 (for Model MD-11 and MD-11F airplanes), and Boeing Alert Service Bulletin DC10-26A065, dated August 19, 2004 (for Model DC-10-10, DC-10-10F, DC-10-15, DC-10-30, DC-10-30F (KC-10A and KDC-10), DC-10-40, DC-10-40F, MD-10-10F, and MD-10-30F airplanes). The service bulletins describe procedures for performing a visual inspection for leaks, bulges, ruptures, or other damage to the Firex discharge pipes or wye assembly; and corrective actions and other specified actions, as applicable. Corrective actions include replacing the discharge pipes with new discharge pipes; and, if necessary, replacing the wye assembly with a new wye assembly. Other specified actions include modifying and reidentifying undamaged discharge pipes. Accomplishing the actions specified in the service information is intended to adequately address the unsafe condition.

FAA's Determination and Requirements of the Proposed AD

We have evaluated all pertinent information and identified an unsafe condition that is likely to exist or develop on other airplanes of this same type design. Therefore, we are proposing this AD, which would require accomplishing the actions specified in the service information described previously.

Clarification of Inspection Terminology

Although the Boeing service bulletins contain instructions to “visually examine” the discharge pipes and wye assembly, this proposed AD would require a “general visual inspection.” We have defined this type of inspection in Note 1 of this proposed AD.

Costs of Compliance

There are about 530 airplanes of the affected design in the worldwide fleet. The following tables provide the estimated costs for U.S. operators to comply with this proposed AD. The proposed actions would be performed at an estimated average labor rate of $65 per work hour.

Inspection Costs for All Airplanes
Action | Work hours | Cost per airplane | Number of U.S.-registered airplanes | Fleet cost
Inspection | 1 | $65 | 343 | $22,295

Replacement Costs for Model MD-11 and MD-11F Airplanes
Action | Work hours | Parts cost | Cost per airplane | Number of U.S.-registered airplanes | Fleet cost
Replace discharge pipe | 2 | $7,170 | $7,300 | 195 | $1,423,500

Replacement Costs for DC-10-10, DC-10-10F, DC-10-15, DC-10-30, DC-10-30F (KC-10A and KDC-10), DC-10-40, DC-10-40F, MD-10-10F, and MD-10-30F Airplanes
Group | Action | Work hours | Parts cost | Cost per airplane | Number of U.S.-registered airplanes | Fleet cost
1 | Replace discharge pipe | 2 | $7,170 | $7,300 | 231 | $1,686,300
2 | Replace discharge pipe | 2 | 8,794 | 8,924 | 16 | 142,784
3 | Replace discharge pipe | 2 | 7,170 | 7,300 | 11 | 80,300

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2005-20662; Directorate Identifier 2004-NM-191-AD.

Comments Due Date

(a) The Federal Aviation Administration (FAA) must receive comments on this AD action by May 6, 2005.

Affected ADs

(b) None.

Applicability

(c) This AD applies to McDonnell Douglas Model DC-10-10, DC-10-10F, DC-10-15, DC-10-30, DC-10-30F (KC-10A and KDC-10), DC-10-40, DC-10-40F, MD-10-10F, and MD-10-30F airplanes as identified in Boeing Alert Service Bulletin DC10-26A065, dated August 19, 2004; and Model MD-11 and MD-11F airplanes as identified in Boeing Alert Service Bulletin MD11-26A060, dated July 20, 2004; certificated in any category.

Unsafe Condition

(d) This AD was prompted by reports of freezing damage to the Firex discharge pipes and wye assembly of the number 2 engine, and one report of a level 1 ENG FIRE AGENT LO alert during flight. We are issuing this AD to prevent accumulation of water in the discharge pipes and possible consequent freezing damage to the discharge pipes and wye assembly, which could lead to failure of the fire extinguishing system during a fire in the number 2 engine.

Compliance

(e) You are responsible for having the actions required by this AD performed within the compliance times specified, unless the actions have already been done.

Inspection and Corrective and Other Specified Actions

(f) Within 12 months after the effective date of this AD, perform a general visual inspection for damage to the Firex discharge pipes and wye assembly of the fire extinguishing system of the number 2 engine, and corrective and other specified actions; by doing all the actions specified in the Accomplishment Instructions of Boeing Alert Service Bulletin MD11-26A060, dated July 20, 2004 (for Model MD-11 and MD-11F airplanes); or Boeing Alert Service Bulletin DC10-26A065, dated August 19, 2004 (for Model DC-10-10, DC-10-10F, DC-10-15, DC-10-30, DC-10-30F (KC-10A and KDC-10), DC-10-40, DC-10-40F, MD-10-10F, and MD-10-30F airplanes); as applicable. Do the corrective and other specified actions, as applicable, prior to further flight.

Note 1: For the purposes of this AD, a general visual inspection is: “A visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.”

Alternative Methods of Compliance (AMOCs)

(g) The Manager, Los Angeles Aircraft Certification Office, FAA, has the authority to approve AMOCs for this AD, if requested in accordance with the procedures found in 14 CFR 39.19.

Issued in Renton, Washington, on March 9, 2005.
Ali Bahrami,
Manager, Transport Airplane Directorate, Aircraft Certification Service.

[FR Doc. 05-5574 Filed 3-21-05; 8:45 am]

BILLING CODE 4910-13-P